LIBRARY OF CONGRESS

Copyright Office

37 CFR Part 201

[Docket No. RM 2001-7A]

Disruption or Suspension of Postal or Other Transportation or Communications Services

AGENCY: Copyright Office, Library of Congress.

ACTION: Interim regulations; Request for comments; Correction.

SUMMARY: On December 4, 2001, the Copyright Office published an interim regulation addressing the effect of a general disruption or suspension of postal or other transportation or communications services. This document makes corrections to that interim regulation.

EFFECTIVE DATE: December 11, 2001.

FOR FURTHER INFORMATION CONTACT: Sandra L. Jones, Writer Editor, or Marilyn J. Kretsinger, Assistant General Counsel, Copyright GC/I&R, PO Box 70400, Southwest Station, Washington DC 20024-0400. Telephone: (202) 707-8380. Fax: (202) 707-8366.

SUPPLEMENTARY INFORMATION: The Copyright Office published an interim regulation in the Federal Register on December 4, 2001, addressing the effect of a general disruption or suspension of postal or other transportation or communications services on the Office's receipt of deposits, applications, fees, or any other materials, and the assignment of a date of receipt to such materials. This document makes a non-substantial correction to the interim regulation.

In rule RM2001-7 published on December 4, 2001, (66 FR 62942), make the following correction. On page 62944, in the third column, redesignate paragraphs (f)(i) through (iv) as paragraphs (f)(1) through (4).

Dated: December 6, 2001.
Marilyn J. Kretsinger,
Assistant General Counsel.

[FR Doc. 01-30603 Filed 12-10-01; 8:45 am]

BILLING CODE 1410-30-P